OFFICE OF SCIENCE AND TECHNOLOGY POLICY

Materials Genome Initiative Strategic Plan

ACTION: Notice for Public Comment.

SUMMARY: The National Science and Technology Council's Committee on Technology, Subcommittee on the Materials Genome Initiative requests public comments on the draft 2014 Materials Genome Initiative Strategic Plan (http://www.nist.gov/mgi/upload/MGI-StrategicPlan-2014.pdf).

DATES: Responses must be received by July 21, 2014 to be considered.

ADDRESSES: You may submit comments by any of the following methods:

• Email: mgi-strategicplan@ostp.gov. Include [MGI Strategic Plan—Public Comment] in the subject line of the message.

• Fax: (202) 456-6027, Attn: Meredith Drosback.

• Mail: Attn: Meredith Drosback, Office of Science and Technology Policy, Eisenhower Executive Office Building, 1650 Pennsylvania Ave. NW., Washington, DC 20504.

Instructions: Response to this request for public comment is voluntary. Responses exceeding 500 words will not be considered; please reference page and line numbers in your response, as appropriate. Please be aware that your comments may be posted online. OSTP therefore requests that no business proprietary information, copyrighted information, confidential, or personally identifiable information be submitted in response to this request. Please note that the U.S. Government will not pay for response preparation, or for the use of any information contained in the response.

FOR FURTHER INFORMATION CONTACT: Meredith Drosback, (202) 456-4444, mdrosback@ostp.eop.gov, OSTP.

SUPPLEMENTARY INFORMATION: In June 2011, President Obama launched the Materials Genome Initiative (MGI) to help scientists and innovators discover, develop, and deploy new materials twice as fast as today. What began with a modest investment by four Federal agencies only three years ago has now expanded to include participation by a wide range of public and private stakeholders, including universities, companies, professional scientific societies, and Federal agencies.

At the Federal level, MGI is managed within the framework of the National Science and Technology Council (NSTC), the Cabinet-level council that coordinates science and technology across the Federal government. The Subcommittee on the Materials Genome Initiative (SMGI), under the NSTC Committee on Technology, coordinates Federal efforts in support of the goals of MGI and identifies policies that will accelerate deployment of advanced materials. The SMGI includes representatives from each agency participating in MGI.

The SMGI developed this strategic plan to outline the near-term steps the Federal government will take to achieve the vision put forth by MGI. It defines the high-level goals and priorities for the Initiative by describing each of four strategic goals and the objectives and near-term milestones needed to meet these goals. This strategic plan also describes scientific and technical challenges identified by experts from the materials science and engineering communities that impede progress in nine materials classes and that MGI can help address. This input came through two Grand Challenge Summits held in 2013 for stakeholders from academia and industry (details available online at http://www.ibbr.umd.edu/NISTMGISummit). The experimental and computational tools and scientific cultural evolution emerging from MGI can be directly applied to overcoming these scientific and technical challenges, and others that will emerge in the future, to meet the President's directive for more rapid discovery and deployment of advanced materials. The SMGI is seeking public comment on this strategic plan (available at http://www.nist.gov/mgi/upload/MGI-StrategicPlan-2014.pdf) in advance of finalizing the document for publication.

Ted Wackler,
Deputy Chief of Staff and Assistant Director.

[FR Doc. 2014-14392 Filed 6-19-14; 8:45 am]

BILLING CODE 3270-F4-P